DEPARTMENT OF DEFENSE

Department of the Army, Corps of Engineers

32 CFR Part 625

[Docket ID: USA-2020-HQ-0010]

RIN 0702-AA98

Surface Transportation—Administrative Vehicle Management

AGENCY: U.S. Army Corps of Engineers, Department of Defense (DoD).

ACTION: Final rule.

SUMMARY: This final rule removes the U.S. Army Corps of Engineers' part titled Surface Transportation—Administrative Vehicle Management. This part is out-of-date and otherwise covers internal agency operations that have no public compliance component or adverse public impact. Therefore, this part can be removed from the CFR.

DATES: This rule is effective on August 21, 2020.

ADDRESSES: Department of the Army, U.S. Army Corps of Engineers, ATTN: CECW-P (Ms. Patricia Mutschler), 441 G Street NW, Washington, DC 20314-1000.

FOR FURTHER INFORMATION CONTACT: Ms. Patricia Mutschler at 202-761-4744 or by email at Patricia.L.Mutschler@usace.army.mil.

SUPPLEMENTARY INFORMATION: This final rule removes the U.S. Army Corps of Engineers' 32 CFR part 625, Surface Transportation—Administrative Vehicle Management. The solicitation of public comment is unnecessary as each removed section in this part is out-of-date and otherwise covers internal agency operations that have no public compliance component or adverse public impact. The regulation was initially promulgated on November 2, 1979 (44 FR 63099) to provide guidance and authorize dependents to accompany a Corps employee on Temporary Duty (TDY) in a Government-owned or leased motor vehicle. The regulation was promulgated for transparency purposes despite the content being directed solely to the issuing agency with no impact to the public.

The removal of 32 CFR part 625 will bring the U.S. Army Corps of Engineers into compliance with DoD Manual 4500.36, “Acquisition, Management, and Use of DoD Non-Tactical Vehicles” (available at https://www.esd.whs.mil/Portals/54/Documents/DD/issuances/dodm/450036m.pdf?ver=2018-12-20-085741-153); and Army Regulation 58-1, “Management, Acquisition, and Use of Motor Vehicles” (available at https://api.army.mil/e2/c/downloads/455098.pdf), which do not allow for the transportation of dependents in non-tactical vehicles provided for DoD personnel when on Temporary Duty (TDY).

This removal is being conducted to provide clarity and reduce confusion for the public as well as for the Corps regarding the current policy which governs the Corps' use of non-tactical vehicles. The removal of the regulation will ensure the Corps' policy complies with existing DoD and Army internal agency guidance which has no future effect on the behavior of regulated parties and which can be found at the sources provided in this SUPPLEMENTARY INFORMATION section. In an effort to reduce the number of regulations the Corps has promulgated, the removal of an out-of-date regulation which is also out of compliance with current agency policy is appropriate. The regulation does not place a burden on the public; therefore, its removal does not provide a reduction in public burden or costs.

This rule is not significant under Executive Order (E.O.) 12866, “Regulatory Planning and Review.” Therefore, the requirements of E.O. 13771, “Reducing Regulation and Controlling Regulatory Costs,” do not apply.

This removal supports a recommendation of the DoD Regulatory Reform Task Force.

List of Subjects in 32 CFR part 625

Engineers Corps, Government employees, Government property management, Motor vehicles.

Accordingly, for the reasons stated in the preamble and under the authority of 5 U.S.C. 301, the Corps of Engineers removes 32 CFR part 625.

Dated: July 28, 2020.
Brenda S. Bowen,
Army Federal Register Liaison Officer.

[FR Doc. 2020-16695 Filed 8-20-20; 8:45 am]

BILLING CODE 3720-58-P